DEPARTMENT OF AGRICULTURE

Commodity Credit Corporation

Farm Service Agency

Information Collection; Representation for CCC and FSA Loans Authorization To File a Financing Statement

AGENCY: Commodity Credit Corporation and Farm Service Agency, USDA.

ACTION: Notice; request for comments.

SUMMARY: In accordance with the Paperwork Reduction Act of 1995, the Commodity Credit Corporation (CCC) and the Farm Service Agency (FSA) is seeking comments from all interested individuals and organizations on an extension of a currently approved information collection associated with form CCC-10, entitled “Representations for Commodity Credit Corporation or Farm Service Agency Loans and Authorization To File A Financing Statement and Related document,” which is used to support the CCC and FSA Farm Loan Programs (FLPs).

DATES: We will consider comments that we receive by May 16, 2011.

FOR FURTHER INFORMATION CONTACT: DeAnn Allen, USDA, Farm Service Agency, Price Support Division, phone (202) 720-9889.

ADDRESSES: We invite you to submit comments on this Notice. In your comment, include volume, date and page number of this issue of the Federal Register. You may submit comments by any of the following methods:

E-mail: Send comments to: Deann.Allen@wdc.usda.gov.

Fax: (202) 690-3307.

Mail: DeAnn Allen, Program Manager, USDA, Farm Service Agency, Price Support Division, 1400 Independence Avenue, SW., STOP 0512, Washington, DC 20250-0512.

Comments also should be sent to the Desk Officer for Agriculture, Office of Information and Regulatory Affairs, Office of Management and Budget, Washington, DC 20503.

SUPPLEMENTARY INFORMATION:

Title: Representations for Commodity Credit Corporation or Farm Service Agency Loans and Authorization To File a Financing Statement and Related Documents.

OMB Control Number: 0560-0215.

Expiration Date of Approval: October 31, 2011.

Type of Request: Extension.

Abstract: Form CCC-10 is necessary to: (a) Gather or verify basic data provided by a CCC or FSA loan applicant that is required on a financing statement filed by CCC or FSA to perfect a security interest in collateral used to secure a loan; and (b) obtain loan applicant permission to file a financing statement prior to the execution of a security agreement.

Estimate of Burden: Public reporting burden for this collection of information is estimated to average 5 minutes per response. The average travel time, which is included in the total annual burden, is estimated to be 1 hour per respondent.

Estimated Number of Respondents: 55,500.

Estimated Number of Responses per Respondent: 1.

Estimated Total Annual of Responses: 55,500.

Estimated Total Annual Burden Hours: 32,357 hours.

We are requesting comments on all aspects of this information collection to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a mater of public records. Comments will be summarized and included in the request for OMB approval of the information collection.

Signed in Washington, DC, on March 9, 2011.
Val Dolcini,
Executive Vice President, Commodity Credit Corporation, Administrator, Farm Service Agency.

[FR Doc. 2011-6150 Filed 3-15-11; 8:45 am]

BILLING CODE 3410-05-P